DEPARTMENT OF THE INTERIOR

National Park Service

[NPS-NER-FRSP-20694; PS.SSARA0003.00.1]

Minor Boundary Revision at Fredericksburg and Spotsylvania County Battlefields Memorial National Military Park

AGENCY: National Park Service, Interior.

ACTION: Notification of boundary revision.

SUMMARY: The boundary of Fredericksburg and Spotsylvania County Battlefields Memorial National Military Park is modified to include four tracts containing 25.55 acres of land, more or less, located in Orange County and Spotsylvania County, Virginia, immediately adjoining the boundary of Fredericksburg and Spotsylvania County Battlefields Memorial National Military Park. Subsequent to the proposed boundary revision, the National Park Service will acquire one tract by donation from the Civil War Trust and two tracts by purchase from the Central Virginia Battlefields Trust. The fourth tract, already owned by the United States and acquired as an uneconomic remnant, will be brought into the boundary so that it can be administered as part of the park.

DATES: The effective date of this boundary revision is May 23, 2016.

ADDRESSES: The map depicting this boundary revision is available for inspection at the following locations: National Park Service, Land Resources Program Center, Northeast Region, New England Office, 115 John Street, 5th Floor, Lowell, MA 01852, and National Park Service, Department of the Interior, 1849 C Street NW., Washington, DC 20240.

FOR FURTHER INFORMATION CONTACT: Deputy Realty Officer Rachel McManus, National Park Service, Land Resources Program Center, Northeast Region, New England Office, 115 John Street, 5th Floor, Lowell, MA 01852, telephone (978) 970-5260.

SUPPLEMENTARY INFORMATION: Notice is hereby given that, pursuant to 54 U.S.C. 100506(c), the boundary of Fredericksburg and Spotsylvania County Battlefields Memorial National Military Park is modified to include four adjoining tracts totaling 25.55 acres of land. The boundary revision is depicted on Map No. 326/129075, dated July 8, 2015.

54 U.S.C. 100506(c) provides that, after notifying the Committee on Natural Resources of the House of Representatives and the Committee on Energy and Natural Resources of the Senate, the Secretary of the Interior is authorized to make this boundary revision upon publication of notice in the Federal Register. The Committees have been notified of this boundary revision. This boundary revision and subsequent acquisition will ensure preservation and protection of the park's scenic and historic resources.

Dated: April 5, 2016.
Michael A. Caldwell,
Regional Director, Northeast Region.

[FR Doc. 2016-12049 Filed 5-20-16; 8:45 am]

BILLING CODE 4310-WV-P